ENVIRONMENTAL PROTECTION AGENCY

[OPPT-2004-0042; FRL-7351-5]

Educational Outreach and Baseline Assessment of Existing Exposure and Risks of Exposure to Lead Poisoning of Tribal Children; Notice of Funds Availability

AGENCY: Environmental Protection Agency (EPA).

ACTION: Notice.

SUMMARY: EPA is soliciting grant proposals from Indian tribes to support tribal lead outreach and educational awareness and conduct baseline assessment of existing exposure and risks of exposure to lead poisoning of tribal children. EPA is awarding grants which will provide approximately $1.2 million to Indian tribes to perform those activities and to encourage Indian tribes to consider continuing such activities in the future. This notice describes eligibility, activities, application procedures and requirements, and evaluation criteria.

DATES: All grant proposals must be received on or before June 28, 2004.

ADDRESSES: Grant proposals must be submitted by mail. Please follow the detailed instructions as provided in Unit II. of the SUPPLEMENTARY INFORMATION.

FOR FURTHER INFORMATION CONTACT: For general information contact: Colby Lintner, Regulatory Coordinator, Environmental Assistance Division (7408M), Office of Pollution Prevention and Toxics, Environmental Protection Agency, 1200 Pennsylvania Ave., NW., Washington, DC 20460-0001; telephone number: (202) 554-1404; e-mail address: TSCA-Hotline@epa.gov.

For technical information contact: Darlene Watford, Program Assessment and Outreach Branch, National Program Chemicals Division (7404T), Office of Pollution Prevention and Toxics, Environmental Protection Agency, 1200 Pennsylvania Ave., NW., Washington, DC 20460-0001; telephone number: (202) 566-0516; e-mail address: watford.darlene@epa.gov.

SUPPLEMENTARY INFORMATION:

I. Overview Information

The following listing provides certain key information concerning the availability of funds opportunity.

• Federal Agency name: Environmental Protection Agency (EPA).

• Funding opportunity title: Educational Outreach and Baseline Assessment of Existing Exposure and Risks of Exposure to Lead Poisoning of Tribal Children.

• Announcement type: Notice of availability.

• Catalog of Federal Domestic Assistance (CFDA) number: 66.715.

• Dates: All grant proposals must be received on or before June 28, 2004.

II. General Information

A. Does this Action Apply to Me?

You may be potentially affected by this action if you are a Federally-Recognized Indian tribe or tribal consortium. For the purposes of this notice, a partnership between two or more Federally-Recognized Indian Tribes is considered a consortium. Potentially affected entities may include, but are not limited to:

• 921150 American Indian and Alaskan Native Tribal Governments.

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the Federal Register document published by the Bureau of Indian Affairs (BIA) on July 12, 2002 (67 FR 46328) which lists all Federally-Recognized Indian Tribes. If you have any questions regarding the applicability of this action to a particular entity, consult the technical person listed under FOR FURTHER INFORMATION CONTACT.

B. How Can I Get Copies of this Document and Other Related Information?

1. Docket. EPA has established an official public docket for this action under docket identification (ID) number OPPT-2004-0042. The official public docket consists of documents specifically referenced in this action and other information related to this action. Although a part of the official docket, the public docket does not include Confidential Business Information (CBI) or other information whose disclosure is restricted by statute. The official public docket is the collection of materials that is available for public viewing at the EPA Docket Center, Rm. B-102 Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the Federal Register listings at http://www.epa.gov/fedrgstr/.

An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in Unit II.B.1. Once in the system, select “search,” then key in the appropriate docket ID number.

You may also access this document at the Office of Pollution Prevention and Toxics Lead Home Page at http://www.epa.gov/lead/new.htm/.

C. How and to Whom Do I Submit a Grant Proposal?

You may submit one original and three double-sided copies of the grant proposal through the mail to: Darlene Watford, Program Assessment and Outreach Branch, National Program Chemicals Division (7404T), Office of Pollution Prevention and Toxics (OPPT), Environmental Protection Agency, 1200 Pennsylvania Ave., NW., Washington, DC 20460-0001.

For overnight/express delivery service, send grant proposals to: Darlene Watford, Program Assessment and Outreach Branch, National Program Chemicals Division (7404T), Office of Pollution Prevention and Toxics (OPPT), Environmental Protection Agency, 1301 Constitution Ave., NW., EPA West (Old Customs Bldg.), 4th Floor Connecting Wing, Rm. 4355, Washington, DC 20004-0001.

III. What Action is the Agency Taking?

EPA is soliciting proposals from tribes or tribal consortia for grants to support educational outreach activities and/or baseline assessment of existing exposure and risks of exposure to lead poisoning of tribal children. The educational outreach grants will provide tribes with the means to launch efforts to educate tribal families about dangers to children of exposure to lead-based paint hazards. The baseline assessments may include inspecting pre-1978 tribal housing and/or child-occupied facilities for lead-based paint hazards, blood-lead screening to collect blood-lead level data of tribal children, testing of paint, dust, and soil for hazardous lead levels, training individuals to perform lead inspections and risk assessments, and funding contractor support necessary to implement these activities. EPA is awarding grants which will provide approximately $1.2 million for tribes or tribal consortia to perform these activities. Decisions on awarding the grant funds will be made based on the evaluation of the proposals using the criteria specified in Unit IV. Tribes or tribal consortia that submit qualifying proposals will be notified by EPA of their selection and will be required to submit official grant applications as a part of the award process.

IV. What Should I Consider as I Prepare My Grant Proposal?

A. Scope and Purpose

The purpose of these grants is to support tribal lead awareness outreach (educational) activities and the efforts of Indian tribes to identify children's risks to lead by conducting a baseline assessment of existing exposure and/or potential lead exposures. The outreach activities may be provided to children, parents, daycare providers, and legal custodians on the potential health risks associated with lead exposure. As a result of the baseline assessment, tribes may use the resulting data to evaluate whether there is a need to develop and implement an authorized tribal lead-based paint program (40 CFR 745.324).

B. Eligibility

Eligible recipients are any Federally-Recognized Indian Tribes or tribal consortia only. Federally-Recognized Indian Tribes are listed in the Federal Register document published by the BIA on July 12, 2002 (67 FR 46328). Only one grant proposal may be submitted by each tribe or tribal consortia under this notice. However, the grant proposal may include outreach activities, baseline assessment activities, or both. There are no requirements for matching funding under this grant program. There is no requirement that a tribe provide documentation that it meets the treatment in a manner similar to a State (TAS) standard.

C. Activities to be Funded

EPA will provide financial assistance in the form of grants to Indian tribes or tribal consortia to conduct any or all of the following activities:

1. Outreach (educational) activities. EPA will provide financial assistance in the form of grants to Indian tribes or tribal consortia to develop and conduct organized outreach efforts to educate tribal families about the dangers to children from exposure to lead-based paint hazards, distribute educational information, and encourage tribal families to have their children screened for lead poisoning and have their homes tested for lead hazards. Activities may include, but are not limited to, training medical professionals, developing culturally specific lead outreach materials, distributing pamphlets, and establishing an in-home education program to visit the homes of young tribal children.

Tribes may develop their own outreach materials; however, the use and reproduction of pre-existing products is strongly encouraged and preferred. EPA is aware that many State, tribal, and local departments of health and environmental protection, as well as advocacy groups and community development groups, have developed useful lead poisoning prevention materials to conduct outreach and awareness (educational) activities. EPA and other Federal agencies have developed, and currently provide, a wide range of outreach materials available from the National Lead Information Center (1-800-424-LEAD). Trained specialists at the Center can help identify specific types of lead awareness materials that already exist and thereby help grantees avoid spending funds to recreate these materials. Grant funding may be used to duplicate existing lead outreach materials or to develop and implement a lead poisoning awareness and prevention program. Any new lead awareness materials developed must be consistent with the Federal (EPA, Department of Housing and Urban Development (HUD), and Centers for Disease Control and Prevention (CDC, formerly the Centers for Disease Control)) lead hazard awareness and poisoning prevention programs (http://www.epa.gov/lead/, http://www.hud.gov/offices/lead/, and http://www.cdc.gov/nceh/lead/lead.htm/) and receive approval from the appropriate EPA Regional Lead Contact listed in Unit IV.C.2.v. prior to distribution.

2. Baseline assessment activities—i. Conduct blood-lead screening of tribal children age 6 years and under. For blood-lead screening activities, the focus should be on tribal children between the ages of 12-36 months because blood-lead levels tend to be highest in this age group, and more children in this age group tend to have blood-lead levels >10 (micrograms/deciliter (μg/dL). The CDC's recommended level of concern that encourages followup activities is 10 μg/dL, with specific actions/interventions recommended at various elevated blood-lead levels. All blood-lead samples collected from tribal children must be analyzed using a Clinical Laboratory Improvement Amendments (CLIA)-certified laboratory. Portable, hand-held blood-lead analyzers may be used, but must be operated by a laboratory that is CLIA certified for moderately complex analysis. CLIA, published in 1992 (42 CFR part 405), is administered by the Centers for Medicare and Medicaid Services (CMS, formerly the Health Care Finance Administration). CLIA-certified laboratories must successfully participate in a testing proficiency program that is CLIA approved. Information regarding CLIA may be downloaded from the CMS web site at http://www.cms.gov/clia/.

ii. Conduct inspections and risk assessments of pre-1978 tribal housing and/or child occupied facilities for lead-based paint hazards. (Housing and facilities may be owned or occupied by tribal members.) This includes collection and analysis of paint, dust, and soil samples for hazardous lead levels. Inspections and risk assessments may only be conducted by individuals certified by EPA for Indian country in the EPA Region where the tribe is located or certified by the recipient tribe if the tribe has received EPA program authorization. Inspections and risk assessments must be conducted according to the work practice standards found in 40 CFR 745.227 or those of the authorized tribal program. Analysis of paint, dust, and soil samples must be conducted by a National Lead Laboratory Accreditation Program (NLLAP) recognized laboratory. EPA has established the NLLAP to recognize laboratories that demonstrate the ability to analyze paint chip, dust, or soil samples for lead. NLLAP provides the public with a list of laboratories that have met EPA requirements and demonstrated the capability to accurately analyze paint chip, dust, or soil samples for lead. A current list of NLLAP-recognized laboratories can be obtained by calling the National Lead Information Center at 1-800-424-LEAD.

iii. Train workers to perform lead inspections and risk assessments. Grant funds may be used for initial, refresher, or any other training and/or third party testing required to obtain certification (as discussed in Unit IV.C.2.ii.) to perform lead-based paint inspections and risk assessments. Grant funds cannot be used to pay for any administrative fees for certification to conduct lead inspections and/or risk assessments.

iv. Compile and summarize demographic data collected from activities listed in Unit IV.C.2.i-iii. In order for tribes to qualify for other Federal funds for lead activities, sufficient data needs to be compiled and well organized. It is strongly recommended that tribes develop or use an existing data management system (manual or automated) to collect and maintain the data collected during the project, including laboratory results and data on followup cases for tribal children with elevated blood-lead levels. This information may be essential in determining if tribes have the capacity for a tribal lead program (40 CFR 745.324) and are eligible for other Federal funding for lead activities. (An existing tribal tracking system, Tribal Relational Environmental Numeric Health Database System or TRENHDS, may be viewed or downloaded from http://www.bluejaydata.com/trenhds/.) It is recommended that the data include: Tribe or tribal consortium name and location; an identifier that protects the privacy of the child; age of housing in which the child resides; age of the child (in months); gender; sample media (blood, soil, dust, or paint); date of sample collection; method of sample collection (for blood samples indicate whether method was capillary or venous); laboratory analysis method and date; the levels of lead in blood (in micrograms per deciliter (μg/dL)), soil (in micrograms per gram (μg/g)), dust (in micrograms per square foot (μg/ft²)), and paint (in micrograms per gram (μg/g) or milligrams per centimeter square (mg/cm²)); the number of homes and/or child-occupied facilities where risk assessments or inspections were conducted; the number of paint, dust, and soil samples collected; and possible exposure routes from other sources (such as hobby materials, pottery, parent occupational exposure, special native foods, medications, etc.) for each tribal child screened.

v. Quality assurance. All environmental or health-related measurements or data generation must adequately address the requirements of 40 CFR 31.45 relating to quality assurance/quality control. Information on EPA quality assurance requirements may be downloaded from the EPA Quality Staff web site at http://www.epa.gov/quality/. To begin the process of developing the quality assurance documentation, a quality assurance project plan template has been developed that may be helpful to use as a guide. The template may be downloaded from the EPA/OPPT web site at http://www.epa.gov/lead/new.htm/. For further guidance on preparation of the quality documentation and specific EPA Regional Office approval requirements, please contact the appropriate EPA Regional Lead Contact listed in this unit.

Region I: (Connecticut, Maine, Massachusetts, New Hampshire, Rhode Island, and Vermont), Regional Contact—James M. Bryson, USEPA Region I, One Congress St., Suite 1100 (CPT), Boston, MA 02114-0203. Telephone number: (617) 918-1524.

Region II: (New Jersey, New York, Puerto Rico, and the Virgin Islands), Regional Contact—Lou Bevilacqua, USEPA Region II, MS-225, 2890 Woodbridge Ave., Edison, NJ 08837. Telephone number: (732) 321-6671.

Region III: (Delaware, Maryland, Pennsylvania, Virginia, West Virginia, and the District of Columbia), Regional Contact—Demian Ellis, USEPA Region III (3WC33), 1650 Arch St., Philadelphia, PA 19103-2029. Telephone number: (215) 814-2088.

Region IV: (Alabama, Florida, Georgia, Kentucky, Mississippi, North Carolina, South Carolina, and Tennessee), Regional Contact—Liz Wilde, USEPA Region IV, 61 Forsyth St., SW., Atlanta, GA 30303. Telephone number: (404) 562-8528.

Region V: (Illinois, Indiana, Michigan, Minnesota, Ohio, and Wisconsin), Regional Contact—David Turpin, USEPA Region V (DT-8J), 77 W. Jackson Blvd., Chicago, IL 60604. Telephone number: (312) 886-7836.

Region VI: (Arkansas, Louisiana, New Mexico, Oklahoma, and Texas), Regional Contact — Eva Steele, USEPA Region VI, 1445 Ross Ave., 12th Floor (6MD-RP), Dallas, TX 75202. Telephone number: (214) 665-7211.

Region VII: (Iowa, Kansas, Missouri, and Nebraska), Regional Contact—Crystal Harriel, USEPA Region VII, ARTD/RALI, 901 North 5th, Kansas City, KS 66101. Telephone number: (913) 551-7261.

Region VIII: (Colorado, Montana, North Dakota, South Dakota, Utah, and Wyoming), Regional Contact—David Combs, USEPA Region VIII, 999 18th St., Suite 300, Denver, CO 80202. Telephone number: (303) 312-6021.

Region IX: (Arizona, California, Hawaii, Nevada, American Samoa, and Guam), Regional Contact—Mary Aycock, USEPA Region IX (CMD-4), 75 Hawthorne St., San Francisco, CA 94105. Telephone number: (415) 947-4169.

Region X: (Alaska, Idaho, Oregon, and Washington), Regional Contact—Barbara Ross, USEPA Region X, Solid Waste and Toxics Unit (WCM-128), 1200 Sixth Ave., Seattle, WA 98101. Telephone number: (206) 553-1985.

D. Travel to Conferences

Grant funds may be used to support travel expenses and attendance of key tribal lead program personnel at EPA Regional and National Lead conferences.

E. Project Duration

Projects are expected to be completed within 2 years of award of the grant.

F. Ineligible Costs

Examples of ineligible costs under this grant, include the following:

1. Buying real property, such as land or buildings.

2. Lead hazard reduction activities, such as performing interim controls or abatement (as defined in 40 CFR 745.223).

3. Construction activities, such as renovation, remodeling, or building a structure.

4. Office equipment that costs more than 10% of the amount of the grant, such as a copying machine or a color printer.

5. Analysis equipment in excess of 10% of the amount of the grant.

6. Lead-based paint certification fees for individuals and firms.

7. Contractor support in excess of 25% of the amount of the grant award, except where contract services include blood-lead analysis, training, and/or lead-based paint inspections and risk assessments.

8. Duplication of any lead-related activities that have been previously funded by EPA, or other Federal Government sources.

9. Case-management costs, including treatment for tribal children with elevated blood-lead levels (e.g., followup visits by a doctor or chelation therapy).

EPA is extremely interested in knowing what actions tribes plan to follow regarding monitoring, education, and/or treatment for children whose blood-lead levels are determined to be elevated(> 10 μg/dL) while screened under this grant. It is important that the children who are found to have elevated blood-lead levels are treated. A description of specific steps and related information for followup activities must be included in the work plan section of the grant proposal.

Allowable costs are defined through OMB Circular A-87 “Cost Principles for State, Local, and Tribal Governments.” Grant awards made under this announcement may be subject to the Single Audit Act Amendments of 1996, as defined in OMB Circular A-133.

G. Grant Proposal Requirements

Submit one original and three double-sided copies of the grant proposal, including a return mailing address. Grant proposals must be unbound, stapled, or clipped in the upper left-hand corner, on white paper, and with page numbers. The deadline for EPA's receipt of grant proposals is June 28, 2004. If the tribe has conducted, or is currently working on a related project(s), a brief description of those projects, funding sources, primary commitments, and an indication as to whether those commitments were met must be included in the grant proposal. The description must also indicate how the proposed project is different from other funded work conducted by the tribe(s) or unfunded work conducted by another entity (e.g., Indian Health Service, Superfund), and how the proposed project will not duplicate previous or on-going projects. It is important to note that funds cannot be awarded to conduct activities which have been previously funded through any other Federal grant program.

Grant proposals should be clearly marked to indicate any information that is to be considered confidential. EPA will make final confidentiality decisions in accordance with Agency regulations in 40 CFR part 2, subpart B. All initial grant proposals received under this notice are subject to the dispute resolution process defined at 40 CFR 30.63 and part 31, subpart F.

EPA has another grant program for lead known as the Section 404(g) Lead-Based Paint Activities Grant Program. The Section 404(g) program is for States, Territories, the District of Columbia, and tribes to develop and carry out authorized lead programs under section 404 of the Toxic Substances Control Act (TSCA). Guidance on the FY 2005 Section 404(g) program may be downloaded from the EPA/OPPTS web site at http://www.epa.gov/lead/. Although both grant programs are for lead-based paint activities, they each have very distinct objectives. The grant program opportunities described in this notice may serve as a precursor to, but not as an equivalent or supplement to, the Section 404(g) lead-based paint grant program. The Section 404(g) lead-based paint grant program involves infrastructure development for the anticipated implementation of a lead-based paint training and certification program and does not include the activities (testing for lead in blood, paint, dust, or soil samples, or the general outreach and education activities) listed in this notice. Tribes may determine from the sample results and data interpretation that they obtain from the grant program described in this notice, that they have a need to develop a lead-based paint grant program and may apply for Section 404(g) grant funds. Alternatively, a tribe may decide that it is not in their best interest to pursue such a training and certification oversight program. Tribes or tribal consortia with an EPA-approved lead-based paint program may become eligible for other Federal funding opportunities for lead activities.

H. Work Plan

To be considered for selection under this grant program, grant proposals must include a completed work plan as described in this unit. Tribes may elect to submit a grant proposal for outreach and/or baseline assessment activities. However, only one grant proposal will be accepted from each tribe or tribal consortia in response to this notice. The work plan must describe the proposed project. The work plan must be 4-6 typed pages in length (excluding appendices). One page is one side of a single-spaced typed page. The pages must be letter size (10 or 12 characters per inch (cpi)) and must have margins that are at least 1 inch. The format for the work plan must be organized and outlined as follows:

Section I. Work Plan for Educational Outreach Grant Proposal

A. Title of Project, Table of Contents, and Summary

B. Outreach (Educational) Activities

This section should include, but not be limited to, the following items/activities: Purpose, goal, and scope of the project; types of lead educational material that will be used and/or reproduced; types, if any, of lead educational materials that will be developed; distribution and delivery plans; and percentage estimate of the number of tribal families who will receive the lead awareness information. The grant proposal must include a statement which describes how the effectiveness of the project will be determined.

C. Project Management

Include a description of staff positions, roles, and responsibilities, a description of experience in or potential to conduct activities described in section B; efforts of partnership and collaboration with other local-health agencies, extent of contractor support, schedule and/or a time line showing the major activities and estimated time frames for initiation and completion, and a budget summary.

D. Budget

Provide a reasonable budget that is clearly identifiable with work plan activities.

E. Appendices

The appendices must be no more than 10 pages total and follow the same paging and spacing description as provided in this outline.

i. Resumes of key personnel (also include title, description, and reference name with phone number for work on previous or current grants or contracts within the last 5 years).

ii. Letters of support from tribal representatives for tribal consortia. For individual tribes, include a letter or resolution from Tribal Council or Chairperson showing support for and commitment to the project. (If it is not possible to obtain a letter/resolution from the Tribal Council or Chairperson to submit with your application, an interim letter of explanation must be included with the application.) The letter/resolution will still be required prior to award of the grant.

iii. Detailed information on other lead-based paint or lead-related activities conducted by the tribe or tribal consortium.

Section II. Work Plan for Baseline Assessment Grant Proposal

A. Title of Project, Table of Contents, and Summary

B. Baseline Assessment Activities

This section should include the purpose, goal, and approach of the project. This section should also include a discussion of the separate phases of the project; the criteria for selecting properties to be inspected and/or to have risk assessments performed and children screened; methods to be used for data collection and quality control; and training and certification of individuals to perform lead-based paint evaluation activities. The grant proposal must include a statement which describes how the effectiveness of the project will be determined.

C. Project Management

Include a description of staff positions, roles, and responsibilities, a description of experience in or potential to conduct activities described in section B.; efforts of partnership and collaboration with other local-health agencies, extent of contractor support, schedule and/or time line showing the major activities and estimated time frames for initiation and completion, and a budget summary.

D. Budget

Provide a reasonable budget that is clearly identifiable with work plan activities.

E. Appendices

The appendices must be no more than 10 pages total and follow the same paging and spacing description as provided in this outline.

i. Resumes of key personnel (also include title, description, and reference name with phone number for work on previous or current grants or contracts with the Federal Government within the last 5 years).

ii. Letters of support from tribal representatives for tribal consortia. For individual tribes, include a letter or resolution from Tribal Council or Chairperson showing support for and commitment to the project. (If it is not possible to obtain a letter/resolution from the Tribal Council or Chairperson to submit with your application, an interim letter of explanation must be included with the application.) The letter/resolution will still be required prior to award of the grant.

iii. Detailed information on other lead-based paint or lead-related activities (if applicable).

I. Funding

Applicants may receive grants of up to $75,000 for an outreach (education) project, $50,000 for baseline assessment activities, or $125,000 for a combined grant proposal for both outreach (education) and baseline assessment activities. A separate budget breakdown is required to indicate outreach and baseline assessment funds in combined grant proposals.

Final distribution of the funds will be dependent upon the number of qualified applicants, tribal populations served by each grant, and other factors, as deemed appropriate by EPA (i.e., the evaluation criteria as stated in Unit IV.K.). Tribes may use a portion of the grant funds for contractor support for these activities; however, contractor support may not account for more than 25% of the amount of the grant, except where contract services include blood-lead analysis, training, and/or lead-based paint inspections and risk assessments).

J. Post Award Requirements

EPA's quality assurance requirements must be complied with before any environmental or health-related measurements or data are initiated under this grant. These requirements are addressed in 40 CFR 31.45 relating to quality assurance/quality control. Information on EPA quality assurance requirements may be downloaded from the EPA Quality Staff web site at http://www.epa.gov/quality/. For further guidance on preparation of the quality documentation, and specific EPA Regional approval requirements, please contact the appropriate EPA Regional Lead Contact listed in Unit IV.C.2.v.

The grantee must provide EPA with written progress reports within 30 days of the end of each quarter and a report at the end of the project period.

K. Evaluation Criteria

EPA will review all proposals for quality, strength, and completeness against the following criteria. The Agency will use the proposals to select projects to be funded under this grant program. EPA reserves the right to reject all proposals and make no awards. The lead outreach (educational) awareness and baseline assessment activities grant proposals will be reviewed and evaluated separately. The maximum rating score for each grant proposal will be 105 points (five bonus points for in-kind services). Based upon the evaluation results, a tribe or tribal consortium that submits grant proposals for both the lead outreach (educational) awareness and baseline assessment may receive a grant for one or both activities.

1. Lead outreach (educational) grant proposal criteria—i. General (20 points). The overall description of implementing the tribal lead outreach (educational) awareness program in the proposal must address the goals of this notice of funding availability as detailed in Unit IV.A. It must include reasonable and attainable goals and an approach that is clearly detailed. The proposal must describe the method that will be used to determine the effectiveness of the project. The proposal must provide detailed information on all lead-based paint or lead-related outreach/educational activities for which the tribe has received funding from any Federal, State, or local government.

ii. Outreach activities (40 points). The grant proposal should fully describe the proposed educational outreach efforts for tribal Indian communities. The messages in the grant proposal should be consistent with EPA/HUD/CDC lead-based paint program policies, guidelines, regulations, and recommendations. The following elements will be specifically evaluated:

• Types of existing lead educational material to be used and/or reproduced (i.e., reports, pamphlets, brochures, video tapes, CD ROMs, etc.); types, if any, of lead awareness (educational) outreach materials that will be developed.

• Method of distribution of materials throughout the tribal population.

• How the messages will be delivered, e.g., lecture, written material distribution, one-on-one interviews.

• Printing, special video taping, advertising (billboards, posters, flyers), collaboration with radio or television, or other methods used to reach the tribal Indian population regarding the outreach effort.

• Percentage estimate of the number of tribal families who will receive the lead awareness information; efforts that will be employed to target hard-to-reach tribal communities to inform families about childhood lead poisoning and screening, if applicable; the number of people/families/medical personnel/etc., who will be reached.

• An indication as to whether the proposed outreach materials and activities are suitable for the target audience (i.e., appropriate language comprehension and cultural identification).

iii. Project management (30 points). The grant proposal should describe the staff positions, roles, and responsibilities, and their qualifications. The following elements will also be evaluated: Resumes of key personnel; tribal experience in or potential to conduct activities such as those described in the “Outreach Activities” section; previous experience managing similar projects; and availability of references; access to properly trained staff and facilities to conduct the project; schedule for completing the project; and the extent of activities to be performed by a contractor.

iv. Budget (10 points plus 5 bonus points). The evaluation will be based on the extent to which the proposed budget is reasonable, clear, and consistent with the intended use of the funds. Although matching funds are not required, up to five bonus points will be given to grant proposals indicating financial contributions and/or in-kind services provided to the project.

2. Baseline assessment proposal criteria—i. General (20 points). The overall description of the tribal lead baseline assessment program will be evaluated. The grant proposal must address the goals of this notice as detailed in Unit IV.A. It must include reasonable and attainable goals and an approach that is clearly detailed. The proposal must include a statement which describes how the effectiveness of the project will be determined. The grant proposal must provide detailed information on all lead-based paint or lead-related activities for which the tribe has received funding from any Federal, State, or local government.

ii. Baseline assessment activities (40 points).

• Blood-lead screening activities. The grant proposal will be evaluated on the description of the sampling, collection, handling, and analysis activities; the data collection and tracking system, quality control measures; the description of the facility/facilities where the blood-lead sampling will occur (i.e., school, library, health department facility, clinic, private building, mobile van, etc.); and the estimated number and a percentage estimate of the number of tribal children to be screened in the project. The evaluation will also be based on the description of the method that will be used to solicit maximum participation of tribal children; the methods, (i.e., printing, video taping, collaboration with radio or television, etc.) to be used to reach the Indian population regarding the blood-lead screening effort; efforts to be used to ensure patient confidentiality; and a description of how the CLIA standards will be met.

• Inspection/risk assessment of tribal housing. The proposal will be evaluated on the description of residential/child occupied properties that will undergo lead-based paint inspection and/or risk assessment; the selection criteria used to identify the properties; the description of methods used to reach tribal population regarding lead paint inspections and/or risk assessment efforts; the description of inspection, risk assessment, and sampling and analysis procedures; the qualifications of inspection personnel; and the description of reporting procedures. All inspections and risk assessments must be conducted according to the work practice standards found in 40 CFR 745.227 or those of an authorized tribal program.

• Paint, dust, and soil testing. The grant proposal evaluation will be based on the description of the sampling, collection, handling, and analysis activities; the description of the data that will be collected, tracked, and reported to EPA; the quality control measures implemented, and a description of how NLLAP-recognized laboratories will be used for analysis.

• Training. Use of EPA accredited training providers or training providers approved by an EPA authorized State or tribe for risk assessments and inspections and use of inspectors and/or risk assessors certified by EPA or by an EPA authorized State or tribe.

iii. Project management (30 points). The grant proposal will be evaluated based on the description of the staff positions, roles and responsibilities, and their qualifications. The following elements will also be evaluated: Resumes of key personnel; tribal experience in or potential to conduct activities such as those described in the “Inspection/Risk Assessment of Tribal Housing,” and “Paint, Dust, and Soil Testing” sections; previous experience managing similar projects; and availability of references; access to properly trained staff and facilities to conduct the project; schedule for completing the project; and the extent of activities to be performed by a contractor.

iv. Budget (10 points plus 5 bonus points). The evaluation will be based on the extent to which the proposed budget is reasonable, clear, and consistent with the intended use of the funds. Although matching funds are not required, up to five bonus points will be given to grant proposals indicating financial contributions and/or in-kind services provided to the project.

L. Selection Notification and Application Requirements

Once proposals have been reviewed and evaluated, the contact person for the Tribe or Tribal consortium (as identified in the proposal) will receive notification from EPA in writing regarding the outcome of the competition. If proposals are selected, additional forms (such as Standard Form SF 424, Application for Federal Assistance) for grant application will be required to be submitted to EPA. The specific information will be provided in the written notification from EPA. In addition, successful applicants will be required to certify that they have not been debarred or suspended from participation in Federal assistance awards in accordance with 40 CFR part 32. The application forms are available on line at http://www.epa.gov/ogd/AppKit/application.htm. These forms should not be submitted with the proposals.

V. Statutory and Executive Order Reviews

Section 10 of TSCA, as supplemented by Public Law 106-74, authorizes EPA to award grants for the purpose of conducting research, development, monitoring, education, training, demonstrations, and studies necessary to carry out the purposes of the Act. Presently, these funds are not eligible for use in a Performance Partnership Agreement. The CFDA number is 66.715 (Childhood Blood-Lead Screening and Lead Awareness Outreach for Indian Tribes). Executive Order 12372, Intergovernmental Review of Federal Programs, does not apply to this assistance program since grant proposals will be submitted in lieu of comments on developing this program.

VI. Congressional Review Act

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This is not a “major rule” as defined by 5 U.S.C. 804(2).

List of Subjects

Environmental protection, Grants-Indians, Indians, Native Americans, Lead, Lead-Based Paint, Maternal and child health.

Dated: April 20, 2004.
Margaret Schneider,
Acting Assistant Administrator, Office of Prevention, Pesticides and Toxic Substances.

[FR Doc. 04-9622 Filed 4-27-04; 8:45 am]

BILLING CODE 6560-50-S